DEPARTMENT OF COMMERCE

International Trade Administration

[A-520-804]

Certain Steel Nails From the United Arab Emirates: Final Results of Antidumping Duty Administrative Review; 2021-2022

AGENCY: Enforcement and Compliance, International Trade Administration, Department of Commerce.

SUMMARY: The U.S. Department of Commerce (Commerce) determines that sales of certain steel nails from the United Arab Emirates were made at less than normal value during the period of review (POR) May 1, 2021, through April 30, 2022.

DATES: Applicable December 7, 2023.

FOR FURTHER INFORMATION CONTACT: Kelsie Hohenberger, AD/CVD Operations, Office V, Enforcement and Compliance, International Trade Administration, U.S. Department of Commerce, 1401 Constitution Avenue NW, Washington, DC 20230; telephone: (202) 482-2517.

SUPPLEMENTARY INFORMATION:

Background

On June 5, 2023, Commerce published the Preliminary Results and invited interested parties to comment.¹ This review covers two respondents: Master Nails and Pins Manufacturing, LLC/Middle East Manufacturing Steel LLC (collectively, Master) and Rich Well Steel Industries LLC (Rich Well).

¹ See Certain Steel Nails from the United Arab Emirates: Preliminary Results of Antidumping Duty Administrative Review; 2021-2022, 88 FR 36536 (June 5, 2023) (Preliminary Results), and accompanying Preliminary Decision Memorandum.

From June 20 through 23,² and July 3 through 7, 2023,³ Commerce verified Master's sales and cost responses. On August 29, 2023, the petitioner ⁴ submitted case briefs,⁵ and on September 7 and 8, 2023, Rich Well ⁶ and Master,⁷ respectively, submitted rebuttal briefs. On September 21, 2023, we extended the deadline for these final results to December 1, 2023.⁸ For a complete description of the events that occurred since the Preliminary Results, see the Issues and Decision Memorandum.⁹

² See Verification Report, “Verification of the Sales Response of Master Nails and Pins Manufacturing LLC,” dated July 21, 2023.

³ See Verification Report, “Verification of the Cost Response of Master Nails and Pins Manufacturing LLC,” dated August 15, 2023.

⁴ The petitioner is Mid Continent Steel & Wire, Inc.

⁵ See Petitioner's Letters, “Case Brief Regarding Master,” and “Case Brief Regarding Rich Well,” both dated August 29, 2023.

⁶ See Rich Well's Letter, “Rich Well Steel Industries LLC Rebuttal to the Petitioner's Case Brief,” dated September 7, 2023.

⁷ See Master's Letter, “Rebuttal Brief of Master,” dated September 8, 2023.

⁸ See Memorandum, “Extension of Deadline for Final Results of the 2021-2022 Antidumping Duty Administrative Review,” dated September 21, 2023.

⁹ See Memorandum, “Certain Steel Nails from the United Arab Emirates: Issues and Decision Memorandum for the Final Results of the Antidumping Duty Administrative Review; 2021-2022,” dated concurrently with, and hereby adopted by, this notice (Issues and Decision Memorandum).

Commerce conducted this administrative review in accordance with section 751 of the Tariff Act of 1930, as amended (the Act).

Scope of the Order ¹⁰

¹⁰ See Certain Steel Nails from the United Arab Emirates: Amended Final Determination of Sales at Less Than Fair Value and Antidumping Duty Order, 77 FR 27421 (May 10, 2012) (Order).

The products covered by this Order are certain steel nails from the United Arab Emirates. For a full description of the scope, see the Issues and Decision Memorandum.

Analysis of Comments Received

We addressed the issues raised in the case and rebuttal briefs in the Issues and Decision Memorandum. A list of the issues addressed in the Issues and Decision Memorandum is included in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record, including our verification reports and comments received from interested parties, we have made changes to the Preliminary Results margin calculation for Master.¹¹

¹¹ See Issues and Decision Memorandum at Comments 1 and 2.

Final Results of Administrative Review

Commerce determines that the following weighted-average dumping margins exist for the period May 1, 2021, through April 30, 2022:

Exporter/producer | Weighted average dumping margin (percent)
Master Nails and Pins Manufacturing LLC/Middle East Manufacturing Steel, LLC | 4.58
Rich Well Steel Industries LLC | 2.28

Disclosure

Commerce intends to disclose the calculations performed in connection with these final results of review (with respect to Master's revised dumping margin) to interested parties within five days after public announcement of the final results or, if there is no public announcement, within five days of the date of publication of this notice in the Federal Register, in accordance with 19 CFR 351.224(b).

Assessment Rates

Pursuant to section 751(a)(2) of the Act and 19 CFR 351.212(b)(1), Commerce has determined, and U.S. Customs and Border Protection (CBP) shall assess, antidumping duties on all appropriate entries covered by this review.

Because the weighted-average dumping margins for Master and Rich Well are not zero or de minimis (i.e., less than 0.5 percent), we calculated importer-specific ad valorem assessment rates based on the ratio of the total amount of dumping calculated for the examined sales to the total entered value of the sales. Where an importer-specific assessment rate is zero or de minimis, we will instruct CBP to liquidate the appropriate entries without regard to antidumping duties.

Consistent with Commerce's assessment practice, for entries of subject merchandise during the POR produced by Master or Rich Well for which they did not know their merchandise was destined for the United States, we will instruct CBP to liquidate unreviewed entries at the all-others rate if there is no rate for the intermediate company(ies) involved in the transaction.¹²

¹² For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2) of the Act: (1) the cash deposit rates for Master and Rich Well will be the weighted-average dumping margins established in the final results of this administrative review; (2) for previously reviewed or investigated companies not listed above, the cash deposit rate will continue to be the company-specific rate published for the most recently completed segment of this proceeding; (3) if the exporter is not a firm covered in this review, a prior review, or the original LTFV investigation, but the producer has been covered in a prior completed segment of this proceeding, the cash deposit rate will be the company-specific rate established for the most recent period for the producer of the merchandise; and (4) the cash deposit rate for all other producers or exporters will continue to be 4.30 percent.¹³ These cash deposit requirements, when imposed, shall remain in effect until further notice.

¹³ See Order, 77 FR at 27422.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: December 1, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Whether Master Nails and Pins Manufacturing, LLC/Middle East Manufacturing Steel, LLC (Master) Failed to Report Reliable/Verifiable Sales Data

Comment 2: Whether Commerce Should Make Adjustments to Master's Data

Comment 3: Whether Rich Well Steel Industries LLC (Rich Well) Failed to Provide an Accurate and Reliable Cost Database

Comment 4: Whether Commerce Should Adjust Rich Well's General and Administrative (G&A) Expenses

VI. Recommendation

[FR Doc. 2023-26892 Filed 12-6-23; 8:45 am]

BILLING CODE 3510-DS-P